DEPARTMENT OF HEALTH AND HUMAN SERVICES

Centers for Disease Control and Prevention

CDC Draft 2021 Update to the HIV Preexposure Prophylaxis Clinical Practice Guideline and Supplement; Webinars

AGENCY: Centers for Disease Control and Prevention (CDC), Department of Health and Human Services (HHS).

ACTION: Notice.

SUMMARY: The Centers for Disease Control and Prevention (CDC), located within the Department of Health and Human Services (HHS), announces webinars that will be held on two dates to receive comments on the draft 2021 update to the HIV Preexposure Prophylaxis (PrEP) Clinical Practice Guideline and Providers Supplement. The webinars are an opportunity for all interested parties to ask questions and provide feedback, but are specifically directed toward clinicians, such as medical doctors, nurse practitioners, physician's assistants, and pharmacists. CDC will consider comments made during the webinars prior to finalizing the draft HIV Preexposure Prophylaxis Clinical Practice Guideline and Providers Supplement: 2021 Update for publication.

DATES: The webinars will be held on the following two dates: May 24, 2021 from 1 p.m. to 2:30 p.m. EDT, and May 25, 2021 from 1 p.m. to 2:30 p.m. EDT. Registration is not required.

ADDRESSES: The webinars can be accessed at https://cdc.zoomgov.com/j/1602789792?pwd=NVhQbWpDMXcza1UrbE94TWJnbEJCZz09. Meeting ID: 160 278 9792, Passcode: 7i@v%w29 or by phone at 1-551-285-1373.

FOR FURTHER INFORMATION CONTACT: Dawn K. Smith, Medical Epidemiologist, Centers for Disease Control and Prevention, 1600 Clifton Road NE, MS-US 12-2, Atlanta, GA 30329, dsmith1@cdc.gov, 404-639-8000.

SUPPLEMENTARY INFORMATION: The CDC's draft HIV Preexposure Prophylaxis Clinical Practice Guideline and Supplement: 2021 Update Webinars are a public presentation of draft updates to the CDC's 2017 HIV Preexposure Prophylaxis Guideline. The draft updates that will be discussed at the webinars include the addition of recommendations to: (1) Inform all sexually active patients about PrEP; (2) offer PrEP with daily oral tenofovir alafenamide/emtricitabine; and (3) provide PrEP with cabotegravir injections (conditioned on FDA approval). Other draft updates to the 2017 guideline that will be open for discussion during the webinars include: simplifying the determination of indications for PrEP; a revised recommended frequency of renal function testing for some PrEP patients; and adding sections on procedures for oral PrEP delivered by telemedicine, same day initiation of PrEP, and event-driven PrEP for appropriate patients.

Physicians and other health-care providers can use this guideline to assist in the prevention of HIV acquisition in their patients. Comments and questions on the draft changes may be made only during the webinars. There will be no written comment period.

Please refer to the draft guideline documents that will be posted for ten days beginning on May 17, 2021 at https://www.cdc.gov/hiv/pdf/risk/prep/cdc-hiv-prep-guidelines-2021.pdf and https://www.cdc.gov/hiv/pdf/risk/prep-cdc-hiv-prep-provider-supplement-2021.pdf.

A recording of each of the two webinars and accompanying transcripts will be available on the website listed in the paragraph above by June 15, 2021. In addition, CDC's responses to questions from the webinars will also be available June 30, 2021 at https://www.cdc.gov/hiv/programresources/planning.html. Comments will be received only during the webinars. There will be no written comment period.

Dated: May 10, 2021.
Sandra Cashman,
Executive Secretary, Centers for Disease Control and Prevention.

[FR Doc. 2021-10094 Filed 5-12-21; 8:45 am]

BILLING CODE 4163-18-P